PEACE CORPS

Agency Information Collection Under Review by the Office of Management and Budget

AGENCY: Peace Corps.

ACTION: Notice of submission for OMB Review, comment request.

SUMMARY: Pursuant to the Paperwork Reduction Act of 1981 (44 U.S.C., Chapter 35), the Peace Corps has submitted to the Office of Management and Budget (OMB) a request for approval of an information collection. The Peace Corps Crime Incident Reporting Form (CIRF) and Peace Corps Crime Incident Tracking Form (CITF) (PCOIG Form 958, PCSS Form 953-2, PCMS Form 954-1, PCSS Form 953-A, PCSS Form 954 and PCSS Form 953-1, forms and information collected by these forms will be utilized as an “Internal Use Only” tool as it relates to crimes perpetrated against Peace Corps Volunteers living and working in 74 countries in the Developing World.

The initial Federal Register notice was published on May 16, 2005, volume 78, No. 93, p. 25866 for 60 days. Also available at GPO Access: wais.access.gpo.gov. No comments, inquiries or responses to the notice were received. A copy of the information collection may be obtained from Ms. Shelley Elbert, Social Science analyst, Office of Safety and Security, Peace Corps, 1111 20th Street, NW., Room 5404, Washington, DC 20526. Ms. Elbert may be contacted by telephone at 202-692-2574. Comments should be received on or before September 6, 2005.

Need For and Use of This Information: the purpose of these forms is to monitor and enhance the safety and security of Peace Corps Volunteers. The information will be collected by the Peace Corps Country Director, the Peace Corps Medical Officer or a staff person designated by the Country Director, and submitted electronically. Peace Corps uses this information to evaluate the circumstance of crimes committed against Peace Corps Volunteer and to make changes in training, site selection and policy as related to the safety of the Volunteer. The information furnished to the Office of Inspector General is used for investigation, prosecution and tracking of perpetrators who commit crimes against Peace Corps Volunteers. The Medical information is used for trend analysis and education of medical treatment personnel on health-related issues that affect Volunteers who are the victims of crime. The forms consolidate reporting media and eliminate duplication. These forms are the first automated crime incident reporting form within the agency and replace a less comprehensive form that was previously submitted manually.

Affected Public: None.

Dated: July 20, 2005.
Patrick Hogan,
Associate Director for Safety and Security.

[FR Doc. 05-15425 Filed 8-1-05; 11:46 am]

BILLING CODE 6051-01-M